DEPARTMENT OF THE INTERIOR

Bureau of Land Management

[CA-350-1020-DH]

Notice of Intent to Amend Redding Resource Management Plan

AGENCY: Bureau of Land Management, Interior.

ACTION: Notice of Intent to Amend a Redding Resource Management Plan and Initiation of Public Scoping.

SUMMARY: Pursuant to the Federal Land Policy and Management Act (Public Law 94-579), and the National Environmental Policy Act (Public Law 91-190), the Bureau of Land Management, Redding Field Office, will consider a proposal to amend the existing boundary of the Horseshoe Ranch Wildlife Area as delineated in the Redding Resource Management Plan.

DATES: Written scoping comments will be accepted until Friday, March 31, 2000. Written comments on the issues that should be addressed in this proposed Resource Management Plan amendment should be sent to the Bureau of Land Management, Redding Field Office, 355 Hemsted Drive, Redding, CA 96002, Attention: Ilene Emry.

SUPPLEMENTARY INFORMATION: The Redding Field Office has received a proposal from the County of Siskiyou to review the existing boundary of the Horseshoe Ranch Area of the Klamath Management Area, Redding Resource Management Plan, dated July 27, 1993. The Horseshoe Ranch Area is located along the California-Oregon border, east of Interstate 5. The current western boundary of the Horseshoe Ranch Area is Interstate 5. The County has proposed moving the boundary back to the 1983 Horseshoe Ranch Management Plan boundary. This was a joint plan between the BLM and California Department of State Fish and Game. The BLM and the California Department of Fish and Game have a successful cooperative management relationship at Horseshoe Ranch which protects the natural values while minimizing taxpayer costs.

This relationship is mirrored by the BLM and Oregon Department of Fish and Wildlife on the north side of the state boundary. In the existing Redding Resource Management Plan, expansion of public land administration westward to Interstate 5 was to complement public management (Pacific Crest Trail, Soda Mountain Wilderness Study Area, existing public land ownership, etc.) in Oregon, enhance public accessibility, and provide more effective long term protection of the interstate deer herd.

The environmental analysis for the Redding Resource Management Plan Amendment will look at alternatives for the current Horseshoe Ranch Area Boundary, which will include no action, reduction, and expansion alternatives. These alternatives will be developed based on internal staff discussions, and public and agency input provided during this scoping process.

The Bureau of Land Management's scoping process will include: (1) identification of issues to be addressed; (2) identification of viable alternatives; and (3) notification of interested groups, individuals, Native American groups, and agencies to determine level of participation and obtain additional information.

FOR FURTHER INFORMATION CONTACT: Charles M. Schultz or Ilene Emry at (530) 224-2100, (530) 224-2172 (fax), or e-mail iemry@ca.blm.gov.

Charles M. Schultz,
Field Manager.

[FR Doc. 00-4543 Filed 2-29-00; 8:45 am]

BILLING CODE 4310-40-P